SECURITIES AND EXCHANGE COMMISSION

[File No. 500-1]

Norstra Energy Inc.; Order of Suspension of Trading

June 26, 2013.

It appears to the Securities and Exchange Commission that there is a lack of current and accurate information concerning the securities of Norstra Energy Inc. (“Norstra”). Norstra is a Nevada corporation based in South Lake, Texas, and its stock is currently quoted on OTC Link, operated by OTC Markets Group, Inc. under the symbol NORX. Questions have arisen concerning the adequacy and accuracy of press releases and other public statements concerning Norstra's business operations.

The Commission is of the opinion that the public interest and the protection of investors require a suspension of trading in the securities of Norstra.

Therefore, it is ordered, pursuant to Section 12(k) of the Securities Exchange Act of 1934, that trading in the securities of the above-listed company is suspended for the period from 9:30 a.m. EDT, on June 26, 2013 through 11:59 p.m. EDT, on July 10, 2013.

By the Commission.
Elizabeth M. Murphy,
Secretary.

[FR Doc. 2013-15668 Filed 6-26-13; 11:15 am]

BILLING CODE 8011-01-P